Title 3—

The President

Presidential Determination No. 03-09 of January 7, 2003

Determination Pursuant to Section 2(c)(1) of the Migration and Refugee Assistance Act of 1962, as Amended

Memorandum for the Secretary of State

Pursuant to section (2)(c)(1) of the Migration and Refugee Assistance Act of 1962, as amended, 22 U.S.C. 2601(c)(1), I hereby determine that it is important to the national interest that up to $11 million be made available from the U.S. Emergency Refugee and Migration Assistance Fund to address unexpected urgent refugee and migration needs arising from the crises in Côte d'Ivoire and Liberia, and from the return of refugees to Sierra Leone and Angola. These funds may be used, as appropriate, to provide contributions to international, governmental, and nongovernmental organizations.

You are authorized and directed to inform the appropriate committees of the Congress of this determination and the obligation of funds under this authority, and to arrange for the publication of this memorandum in the Federal Register.

B

THE WHITE HOUSE,

Washington, January 7, 2003.

[FR Doc. 03-725

Filed 1-10-03; 8:45 am]

Billing code 4710-10-P